NUCLEAR REGULATORY COMMISSION

[Docket Nos. 50-259, 50-260, and 50-296; NRC-2014-0222]

Tennessee Valley Authority; Browns Ferry Nuclear Plant, Unit Nos. 1, 2, and 3

AGENCY: Nuclear Regulatory Commission.

ACTION: License amendment application; withdrawal by applicant.

SUMMARY: The U.S. Nuclear Regulatory Commission (NRC) has accepted the request of Tennessee Valley Authority (TVA) to withdraw its application dated June 28, 2004, for a proposed amendment to Renewed Facility Operating License (RFOL) No. DPR-33 for Browns Ferry Nuclear Plant (BFN), Unit No. 1, and its application dated June 25, 2004, for proposed amendments to RFOL Nos. DPR-52 and DPR-68 for BFN Unit Nos. 2 and 3. The proposed amendments would have increased the maximum authorized power level from the current 3458 megawatt thermal (MWt) to 3952 MWt (approximately 15 percent) for BFN Unit Nos. 1, 2, and 3.

ADDRESSES: Please refer to Docket ID NRC-2014-0222 when contacting the NRC about the availability of information regarding this document. You may obtain publicly-available information related to this document using any of the following methods:

• Federal Rulemaking Web site: Go to http://www.regulations.gov and search for Docket ID NRC-2014-0222. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Farideh E. Saba, Office of Nuclear Reactor Regulation, U.S. Nuclear Regulatory Commission, Washington, DC 20555-0001; telephone: 301-415-1447; email: Farideh.Saba@nrc.gov.

SUPPLEMENTARY INFORMATION: The NRC has accepted TVA's withdrawal of its applications dated June 28, 2004 (ADAMS Accession No. ML041810168), and June 25, 2004 (ADAMS Accession No. ML041840301), for proposed amendments to RFOL No. DPR-33 for BFN Unit No. 1, and RFOL Nos. DPR-52 and DPR-68 for BFN Unit Nos. 2 and 3, respectively, located in Limestone County, Alabama. The proposed change would have modified the BFN operating licenses to increase the maximum authorized power level to 3952 megawatts thermal, by approximately 20 percent above the then maximum authorized power level for Unit No. 1, and approximately 15 percent for Unit Nos. 2 and 3. The licensee, in the September 18, 2014 (ADAMS Accession No. ML14265A487), letter stated that it has been developing a new consolidated extended power uprate license amendment request for BFN Unit Nos. 1, 2, and 3 that is expected to be submitted by October 2015.

The NRC issued Notices of Consideration of Issuance of Amendments to Facility Operating Licenses published in the Federal Register (FR) on July 11, 2005 (70 FR 39803), for BFN Unit No. 1 and July 12, 2005 (70 FR 40064), for BFN Unit Nos. 2 and 3. However, by letter dated September 18, 2014, the licensee requested to withdraw the proposed amendments.

Dated at Rockville, Maryland, this 2nd day of October 2014.
For the Nuclear Regulatory Commission.
Farideh E. Saba,
Senior Project Manager, Plant Licensing Branch II-2, Division of Operating Reactor Licensing, Office of Nuclear Reactor Regulation.

[FR Doc. 2014-24163 Filed 10-8-14; 8:45 am]

BILLING CODE 7590-01-P